DEPARTMENT OF ENERGY

Federal Energy Regulatory Commission

[Docket No. EL02-21-000]

Southwestern Public Service Company, Complainant v. Golden Spread Electric Cooperative, Inc., Respondent; Notice of Complaint

November 14, 2001.

Take notice that on November 13, 2001, Southwestern Public Service Company (SPS) filed a Complaint against Golden Spread Electric Cooperative, Inc. (Golden Spread) pursuant to Rule 206 of the Commission's Rules of Practice and Procedure, 18 CFR 385.206, and in compliance with the confidentiality requirements set forth in 18 CFR 388.112. SPS claims that Golden Spread has violated certain provisions of a Commitment and Dispatch Agreement by and between SPS and Golden Spread.

Golden Spread has been served a copy of the Complaint.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before December 3, 2001. Protests will be considered by the Commission in determining the appropriate action to be taken, but will not serve to make protestants parties to the proceeding. Any person wishing to become a party must file a motion to intervene. Answers to the complaint shall also be due on or before December 3, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28949 Filed 11-19-01; 8:45 am]

BILLING CODE 6717-01-P